SMALL BUSINESS ADMINISTRATION

Data Collection Available for Public Comments

ACTION: 60-day notice and request for comments.

SUMMARY: The Small Business Administration (SBA) intends to request approval, from the Office of Management and Budget (OMB) for the collection of information described below. The Paperwork Reduction Act (PRA) of 1995, 44 U.S.C. Chapter 35 requires federal agencies to publish a notice in the Federal Register concerning each proposed collection of information before submission to OMB, and to allow 60 days for public comment in response to the notice. This notice complies with such requirements.

DATES: Submit comments on or before August 17, 2015.

ADDRESSES: Send all comments to Stephen Morris, Online Media Coordinator, Office of Communications and Public Liaison, Small Business Administration, 409 3rd Street, Floor, Washington, DC 20416.

FOR FURTHER INFORMATION CONTACT: Natale Goriel, Online Media Coordinator, (503) 326-5207, Natale.goriel@sba.gov, or Curtis B. Rich, SBA PRA Officer, 202-205-7030, curtis.rich@sba.gov.

SUPPLEMENTARY INFORMATION: In an effort to streamline the National Small Business Week nomination process, the SBA has put together nomination forms based on the criteria for each National Small Business Week award. The nomination forms will help the public more easily submit nomination packages to the SBA.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

Title: National Small Business Week Awards Nomination Forms.

Description of Respondents: General public.

Form Number: NA.

Total Estimated Annual Responses: 200.

Total Estimated Annual Hour Burden: 1 hour.

Curtis B. Rich,
Management Analyst.

[FR Doc. 2015-14724 Filed 6-15-15; 8:45 am]

BILLING CODE 8025-01-P